DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Agency's intention to request an extension for a currently approved information collection in support of the program for 7 CFR part 4284, subpart K, Agriculture Innovation Demonstration Centers.

DATES: Comments on this notice must be received by March 6, 2006, to be considered.

FOR FURTHER INFORMATION CONTACT: Ms. Roberta D. Purcell, Deputy Administrator, Cooperative Programs, Rural Development, USDA, STOP 3252, Room 4016, 1400 Independence Avenue, SW., Washington, DC 20250-3252. Telephone: (202) 720-7558, E-mail: bobbie.purcell@wdc.usda.gov.

SUPPLEMENTARY INFORMATION: Title: Agriculture Innovation Centers.

OMB Number: 0570-0045.

Expiration Date of Approval: May 31, 2006.

Type of Request: Extension of a currently approved information collection.

Abstract: The Agriculture Innovation Center Program was authorized as a demonstration program by the 2002 Farm Bill to provide technical and business development assistance, through statewide innovation centers, to agricultural producers who want to add value to the commodities or products they produce. This program is administered by Cooperative Programs within USDA's Rural Development. Grants were awarded, on a competitive basis, in fiscal year 2003 only. The authorization for this program expired on September 30, 2004.

Estimate of Burden: Public reporting burden for this collection is estimated to average 4 hours per response.

Respondents: Only the 10 grantees awarded under fiscal year 2003 funding.

Estimated Number of Respondents: 10.

Estimated Number of Responses per Respondent: 2.

Estimated Number of Responses: 30.

Estimated Total Annual Burden on Respondents: 55 hours.

Copies of this information collection can be obtained from Cheryl Thompson, Regulations and Paperwork Management Branch (202) 692-0043.

Comments

Comments are invited on: (a) Whether the proposed collection of information is necessary for the proper performance of the functions of Rural Development, including whether the information will have practical utility; (b) the accuracy of the Agency's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to Cheryl Thompson, Regulations and Paperwork Management Branch, Rural Development, U.S. Department of Agriculture, STOP 0742, 1400 Independence Avenue, SW., Washington, DC 20250-0742. All responses to this notice will be summarized and included in the request for OMB approval. All comments will become a matter of public record.

Dated: December 28, 2005.
David Rouzer,
Acting Administrator, Rural Business-Cooperative Service.

[FR Doc. E5-8259 Filed 1-3-06; 8:45 am]

BILLING CODE 3410-XY-P